EXPORT-IMPORT BANK

Economic Impact Policy

This notice is to inform the public that the Export-Import Bank of the United States has received an application for a $500 million direct loan to support the $325 million export of U.S. mining equipment and services to mine copper concentrate in Mongolia. The concentrate contains approximately 30% copper, and significantly less than 1% of gold and silver. The U.S. exports will enable the mine to produce 828,000 metric tons of copper concentrate per annum on average in the early years of production, and 1,796,000 metric tons of copper concentrate per annum on average in the later years. Available information indicates that the foreign buyer's concentrate output will mainly be sold to smelters in China.

Interested parties may submit comments on this transaction by email to economic.impact@exim.gov or by mail to 811 Vermont Avenue NW., Room 442, Washington, DC 20571, within 14 days of the date this notice appears in the Federal Register.

Angela Mariana Freyre,
Senior Vice President and General Counsel.

[FR Doc. 2013-03828 Filed 2-19-13; 8:45 am]

BILLING CODE 6690-01-P